AGENCY FOR INTERNATIONAL DEVELOPMENT

Board for International Food and Agricultural Development; Notice of Meeting

Pursuant to the Federal Advisory Committee Act, notice is hereby given of the public meeting of the Board for International Food and Agricultural Development (BIFAD). The meeting will be held from 8:45 a.m. to 3:30 p.m. on Tuesday, October 16, 2012 at the Downtown Des Moines Marriott located at 700 Grand Avenue, Des Moines, Iowa. The central theme of this year's meeting will be “The Nexus of Agriculture, Nutrition and Human Health”.

Dr. Brady Deaton, BIFAD Chair and Chancellor of the University of Missouri at Columbia, will preside over the meeting.

The public meeting will begin promptly at 8:45 a.m. with opening remarks by BIFAD Chair Brady Deaton. The Board will address both old and new business during this time and hear from USAID and the university community on progress and mechanisms for advancing programming in agriculture, with a focus on health and nutrition. There will be two panels on this topic, one in the morning and the other in the afternoon. Two board members will provide comments on a recent visit to Haiti to assess the impact of their recommendations to strengthen agricultural research and capacity building. The Board will also hear updates on Feed the Future and the G8 New Alliance for Food Security and Nutrition and will present their findings from a review of the Collaborative Research Support Program (CRSP) model, with a USAID response. Time will then be allowed for public comment.

In the afternoon, the BIFAD chair will present the reinstituted `BIFAD Award for Scientific Excellence in a USAID Collaborative Research Support Program.' Additional time for public comment will be allowed in the afternoon. At 3:30 p.m., the public meeting of the BIFAD will adjourn.

Those wishing to attend the meeting or obtain additional information about BIFAD should contact Susan Owens, Executive Director and Designated Federal Officer for BIFAD. Interested persons may write to her in care of the U.S. Agency for International Development, Ronald Reagan Building, Bureau for Food Security, 1300 Pennsylvania Avenue NW., Room 2.12-001, Washington, DC 20523-2110 or telephone her at (202) 712-0218.

Dated: September 20, 2012.
Susan Owens,
USAID Designated Federal Officer, BIFAD.

[FR Doc. 2012-24711 Filed 10-5-12; 8:45 am]

BILLING CODE P